Proclamation 7944 of October 7, 2005

Columbus Day, 2005

By the President of the United States of America

A Proclamation

Christopher Columbus' journey across uncharted waters in 1492 changed the course of history. Overcoming many obstacles, the explorer from Genoa pursued a dream that carried him to the “New World” and helped launch an age of exploration, leading to the founding of new countries across the Americas. Through the years, the desire to discover and understand has been a part of our Nation's character, and Columbus' spirit has inspired generations of explorers and inventors. On Columbus Day, we honor Christopher Columbus and the vision that carried him on his historic voyage.

Since 1934, when President Roosevelt first proclaimed the national holiday, our Nation has observed Columbus Day to mark the moment when the Old World met the New. As we recognize Columbus' legacy, we also celebrate the contributions of Italian Americans to our Nation's growth and well-being. Americans of Italian descent are musicians and athletes, doctors and lawyers, teachers and first responders. They are serving bravely in our Armed Forces. From our country's first days, the sons and daughters of Italy have brought honor to themselves and enriched our national life.

More than 500 years after Columbus' journey, we are honored that the Italian Republic is among our closest friends and strongest allies. On Columbus Day, we celebrate this strong bond between America and Italy.

In commemoration of Columbus' journey, the Congress, by joint resolution of April 30, 1934, and modified in 1968 (36 U.S.C. 107), as amended, has requested that the President proclaim the second Monday of October of each year as “Columbus Day.”

NOW, THEREFORE, I, GEORGE W. BUSH, President of the United States of America, do hereby proclaim October 10, 2005, as Columbus Day. I call upon the people of the United States to observe this day with appropriate ceremonies and activities. I also direct that the flag of the United States be displayed on all public buildings on the appointed day in honor of Christopher Columbus.

IN WITNESS WHEREOF, I have hereunto set my hand this seventh day of October, in the year of our Lord two thousand five, and of the Independence of the United States of America the two hundred and thirtieth.

B

[FR Doc. 05-20658

Filed 10-12-05; 9:19 am]

Billing code 3195-01-P